DEPARTMENT OF TRANSPORTATION

Office of the Secretary

Notice of Applications for Certificates of Public Convenience and Necessity and Foreign Air Carrier Permits Filed Under Subpart B (Formerly Subpart Q) During the Week Ending May 30, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0179.

Date Filed: May 30, 2008.

Due Date for Answers, Conforming Applications, or Motion to Modify Scope: June 20, 2008.

Description: Application of South Pacific Express Holdings Ltd., d/b/a South Pacific Express Ltd. requesting an exemption and a foreign air carrier permit to engage in scheduled foreign air transportation of persons, property and mail between Samoa and American Samoa.

Docket Number: DOT-OST-2008-0180.

Date Filed: May 30, 2008.

Due Date for Answers, Conforming Applications, or Motion to Modify Scope: June 20, 2008.

Description: Application of Sundt Air AS requesting a foreign air carrier permit and an exemption to engage in on-demand charter transportation of passengers, property and mail between point(s) in Norway and point(s) in the United States, as well as other charters subject to pertinent national, bilateral and international laws and regulations.

Renee V. Wright,
Program Manager, Docket Operations, Federal Register Liaison.

[FR Doc. E8-14490 Filed 6-25-08; 8:45 am]

BILLING CODE 4910-9X-P